FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than June 18, 2013.

A. Federal Reserve Bank of Chicago (Colette A. Fried, Assistant Vice President) 230 South LaSalle Street, Chicago, Illinois 60690-1414:

1. Leland E. Boren, Upland, Indiana; as an individual and the group consisting of Leland E. Boren; Leland E. Boren, IRA; Leland E. Boren as Co-Representative of the LaRita R. Boren Estate; the LaRita R. Boren CRT III, the Andrew J. Bowser Trust, and the Samantha L. Bowser Trust, and Leland E. Boren as trustee of the Lael E. Boren Trust with Patsy L. Smith, as trustee; to acquire voting shares of Independent Alliance Banks, Inc., and thereby indirectly acquire voting shares of IAB Financial Bank, both in Fort Wayne, Indiana.

B. Federal Reserve Bank of Minneapolis (Jacqueline G. King, Community Affairs Officer) 90 Hennepin Avenue, Minneapolis, Minnesota 55480-0291:

1. Sarah Marie Getzlaff, Bismarck, North Dakota; as a member of the Goetz Family Group, to retain voting shares of Oliver Bancorporation, Inc., Center, North Dakota, and thereby indirectly retain voting shares of Security First Bank of North Dakota, New Salem, North Dakota.

C. Federal Reserve Bank of Kansas City (Dennis Denney, Assistant Vice President) 1 Memorial Drive, Kansas City, Missouri 64198-0001:

1. Paul M. Freeman, as custodian for Ann E. Freeman, both of Texhoma, Oklahoma, the John L. Freeman 2012 Trust, Guymon, Oklahoma, and Jacqueline Freeman, Texhoma, Oklahoma, trustee; all as members of the Freeman family control group, to retain voting shares of Texhoma Bancshares, Inc., and thereby indirectly retain voting shares of Anchor D Bank, both in Texhoma, Oklahoma.

Board of Governors of the Federal Reserve System, May 29, 2013.
Michael J. Lewandowski,
Assistant Secretary of the Board.

[FR Doc. 2013-13005 Filed 5-31-13; 8:45 am]

BILLING CODE 6210-01-P